DEPARTMENT OF THE INTERIOR

Bureau of Land Management

[15XL LLIDB03000 LF3100000 DD0000 LFHFFR650000 241A 4500078680]

Notice of Intent To Prepare an Environmental Impact Statement for the Proposed Tri-State Fuel Breaks Project, Owyhee County, ID, and Malheur County, OR

AGENCY: Bureau of Land Management, Interior.

ACTION: Notice.

SUMMARY: In compliance with the National Environmental Policy Act of 1969, as amended (NEPA), the Federal Land Policy and Management Act of 1976, as amended, and the National Historic Preservation Act of 1966, as amended (NHPA), the Bureau of Land Management (BLM) Boise District Office, Boise, Idaho, and the Vale District Office, Vale, Oregon, will prepare an Environmental Impact Statement (EIS) for a landscape level fuel break project located in Owyhee County, Idaho, and Malheur County, Oregon.

DATES: This notice initiates the public scoping process for the EIS. Comments on issues may be submitted in writing until January 5, 2017. Any scoping meetings will be announced at least 15 days in advance through local media, and online at www.blm.gov/id and at www.blm.gov/or. To be most helpful in the preparation of the Draft EIS, comments must be postmarked, faxed, or submitted electronically by the close of the 30-day scoping period or 15 days after the last public meeting, whichever is later. The BLM will provide additional opportunities for public involvement upon publication of the Draft EIS.

ADDRESSES: Submit comments related to the Tri-state Fuel Breaks Project by any of the following methods:

• Email: blm_id_tristate@blm.gov

• Fax: 208-384-3489

• Mail: 3948 South Development Ave., Boise, ID 83705

Documents pertinent to this proposal may be examined at the BLM Boise District Office located at the above address and the BLM Vale District Office, 100 Oregon Street, Vale, OR 97918.

FOR FURTHER INFORMATION CONTACT: Lance Okeson, Project Lead, Fuels Assistant Fire Management Officer; telephone: 208-384-3300; address: 3948 South Development Ave., Boise, ID 83705; email: blm_id_tristate@blm.gov. Contact Mr. Okeson to add your name to our mailing list. Persons using a telecommunications device for the deaf (TDD) may call the Federal Relay Service (FRS) at (800) 877-8339. The FIRS is available 24 hours a day, 7 days a week, to leave a message or question for Mr. Okeson. You will receive a reply during normal business hours.

SUPPLEMENTARY INFORMATION: Southwest Idaho, southeast Oregon, and northern Nevada (the Tri-state area) comprise one of the largest intact areas of Greater Sage-grouse (GRSG) habitat in the Northern Great Basin. The shrub-steppe ecosystem within this area is also one of the most imperiled ecosystems in the United States. The U.S. Fish and Wildlife Service identified the Northern Great Basin as a Priority Area for Conservation (PAC) in its 2013 Conservation Objectives Team Report due to the threat of wildfire, invasive annual grasses, and conifer expansion. Management of wildfire has been identified as one of the key issues for maintaining sage-grouse populations in sagebrush-dominated landscapes. Secretarial Order 3336 calls for “. . . an increased focus to suppressing wildfire in highly valuable portions of sagebrush steppe ecosystem to reduce the loss of critically important greater sage-grouse habitat . . . .” The 2010 Rapid Eco-regional Assessment of the Northern Basin and Range and Snake River Plain identified the Tri-state area as being at high risk for large-scale wildfires.

Wildfires in this remote area can grow quickly and affect hundreds of thousands of acres of sage-grouse habitat within a matter of days. The 2012 Long Draw Fire (558,198 acres), the 2014 Buzzard Complex Fire (395,747 acres), and the 2015 Soda Fire (285,360 acres), all in or near the project area, each had multiple hundred thousand-acre runs in a single burning period, at rates of spread between 10 and 15 miles per hour.

Tri-State Strategy

The Tri-state Strategy is being developed as an integrated approach to protecting valuable, intact sage-grouse habitat from the threat of wildfire in the Tri-state area. There are several components to the strategy: Coordinating wildfire suppression per the Idaho-Oregon-Nevada Tri-state Local Operating Plan; applying existing and future travel management planning decisions for road access and maintenance, which are essential for fire suppression operations; applying national and local wildfire suppression policies and directives that prioritize protection of important habitats; assessing strategic pre-positioning locations of suppression resources, necessary infrastructure additions and funding sources needed to shorten response times; and implementing the Tri-state Fuel Breaks Project, which is the subject of this notice.

Purpose and Need

The Tri-state area provides important sage-grouse habitat. There is a high potential for large wildfires in the Tri-state area due to its remoteness, continuous fuels (i.e., intact sagebrush and understory), and limited sites for firefighters to establish safe anchor points (i.e., secure locations for firefighters to engage a fire without the chance of being outflanked by the fire). Therefore, strategic measures must be taken to protect habitat in this area.

Lightning-caused wildfires in the Tri-state area generally involve multiple, simultaneous ignitions, which exhaust fire suppression resources quickly. Constructing fuel breaks—gaps in combustible material (i.e., vegetation) that slow or stop progress of a wildfire—by manipulating vegetation strategically along roads is a proactive measure to protect this important area for species' habitat. Strategically placed fuel breaks across district and State boundaries enhance fire suppression efforts by providing tactical and logistical opportunities, compartmentalizing areas between fuel breaks to constrain wildfires into more manageable units, and minimizing fire spread. Fuel breaks provide fire suppression resources with opportunities to safely engage wildfires and to be more effective across a larger area with fewer resources.

Goals of the Tri-State Fuel Breaks Project

• Develop, maintain, and utilize fuel breaks to conserve and protect sage-grouse and sagebrush-obligate species' habitat across southwest Idaho and southeast Oregon, and to integrate with similar, existing fuel breaks in northern Nevada;

• Compartmentalize areas between fuel breaks to help contain large wildfires across the Tri-state landscape and district boundaries;

• Provide optimal anchor points for firefighters to safely engage wildfires;

• Reduce the risk of sagebrush community conversion to annual grasslands from repeated wildfire;

• Reduce spread of invasive plant species along fuel break/transportation corridors; and

• Coordinate with current and ongoing travel management planning and implementation to ensure fire personnel have access to fuel breaks.

Proposed Action

The BLM Boise and Vale Districts propose to create a strategic system of fuel breaks spanning State and BLM District boundaries by manipulating vegetation adjacent to existing roads. Proposed fuel break design considerations for this draft EIS will include:

• Reduction of highly combustible vegetation such as invasive annual grasses through chemical and/or mechanical treatments;

• Seeding areas with native and/or non-native plant species that retain a higher moisture content into the dry periods of the year or are naturally less combustible;

• Mechanical treatments that reduce the height of existing vegetation to slow fire growth and reduce flame length; or

• A combination of all the above.

Fuel breaks would be developed in a 3.6 million-acre project area within the BLM Vale and Boise Districts and would tie in with an existing fuel break network in the BLM Elko and Winnemucca Districts in Nevada. The BLM identified approximately 1,600 miles of primary roads during preliminary reconnaissance that may be suitable for fuel break development.

Fuel breaks would be established adjacent to existing roads only, focusing on main/primary travel routes. These routes would be maintained to the full extent consistent with and under the authority of current approved road maintenance prescriptions and, when completed, travel management decisions would ensure suppression resources have access to fuel breaks in a timely manner. The proposed fuel break system would reduce fuel loads adjacent to these roads through mechanical and/or chemical treatments. Fuel breaks would be maintained over the long term on a set schedule (depending on the types of treatments employed and fuel break condition monitoring) to ensure their continued effectiveness and to minimize the potential for invasive species proliferation.

The BLM has completed a conformance review of the proposed project, and all actions considered in the alternatives in the draft EIS will be in conformance with the RMPs for the Owyhee Field Office and public lands in the project area in southeastern Oregon, as amended by the 2015 Greater Sage-Grouse Approved RMP Amendments for Idaho and Oregon.

Coordination with other Federal, tribal, and non-Federal land owners would occur to facilitate opportunities to meet project objectives across all ownerships within the landscape.

Preliminary Issues and Scoping

The purpose of the public scoping process is to determine relevant issues that would influence the scope of the environmental analysis, including alternatives, and guide the process for developing the draft EIS. At present, the BLM has identified the following preliminary issues:

• What is the potential to reduce further loss of sage-grouse and other sagebrush-obligate species' habitat and increase species' persistence through implementation of the proposed fuel break system?

• What is the potential for the proposed action to effectively reduce the size of wildfires and reduce the rate of spread of fires once ignited?

• What construction of new locations or modifications to existing locations for pre-positioning suppression resources would be required to shorten distances and/or response times to ignitions?

• What is the potential for the spread of noxious weeds and invasive plants (i.e., cheatgrass)?

• What is the potential to affect wildlife habitat connectivity and how would the proposed action affect animal migration routes and prey-predator interactions?

• How would the proposed action affect habitat for the GRSG, migratory birds, and pygmy rabbits?

• What would the effects of the proposed action be to wilderness, wilderness study areas, and lands with wilderness characteristics?

• How would the proposed action affect exposure of and accessibility to cultural sites and areas of cultural importance?

• What is the potential for the proposed action to affect watersheds (e.g., hydrologic function)?

Mitigation measures and project design features would be used to minimize impacts to sage-grouse habitat, migratory birds, pygmy rabbits, wilderness characteristics, cultural sites, and watersheds and to limit introduction and spread of invasive and noxious vegetation. Mitigation measures and design features would primarily include avoidance buffers and timing restrictions during implementation and avoidance buffers for fuel break placement; these will be described and analyzed in detail in the draft EIS.

The BLM will consult with tribes on a government-to-government basis in accordance with Executive Order 13175 and other policies. Tribal concerns, including impacts on Indian trust assets and potential impacts to cultural resources and areas of cultural importance, will be given due consideration.

The BLM invites and encourages public participation through the NEPA process to satisfy requirements under Section 106 of the NHPA (16 U.S.C. 470(f)) pursuant to 36 CFR 800.2(d)(3). Historic and cultural resources information related to the area potentially affected by the proposed project will assist the BLM in identifying and evaluating impacts to these resources in the context of both NEPA and Section 106 of the NHPA.

Federal, State, and local agencies, along with other stakeholders interested in or affected by the proposed project that the BLM is evaluating are invited to participate in the scoping process. Eligible agencies may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Lara Douglas,
BLM Boise District Manager.
Donald N. Gonzalez,
BLM Vale District Manager.

[FR Doc. 2016-29202 Filed 12-5-16; 8:45 am]

BILLING CODE 4310-GG-P